DEPARTMENT OF AGRICULTURE

Animal and Plant Health Inspection Service

[Docket No. 98-090-4]

Recognition of Animal Disease Status of Regions in the European Union; Availability of Environmental Assessments and Request for Comments

AGENCY: Animal and Plant Health Inspection Service, USDA.

ACTION: Notice of availability and request for comments.

SUMMARY: We are informing the public that the Animal and Plant Health Inspection Service has prepared two environmental assessments for a proposal to do the following: (1) Recognize a region in the European Union as a region in which hog cholera (classical swine fever) is not known to exist, and from which breeding swine, swine semen, and pork and pork products may be imported into the United States under certain conditions; and (2) recognize Greece and certain Regions in Italy as free of swine vesicular disease. The environmental assessments document our review and analysis of environmental impacts associated with the proposal. We are making these environmental assessments available to the public for review and comment.

DATES: We invite you to comment on the environmental assessments. We will consider all comments that we receive on or before January 21, 2003.

ADDRESSES: You may submit comments by postal mail/commercial delivery or by e-mail. If you use postal mail/commercial delivery, please send four copies of your comment (an original and three copies) to: Docket No. 98-090-4, Regulatory Analysis and Development, PPD, APHIS, Station 3C71, 4700 River Road Unit 118, Riverdale, MD 20737-1238. Please state that your comment refers to Docket No. 98-090-4. If you use e-mail, address your comment to regulations@aphis.usda.gov. Your comment must be contained in the body of your message; do not send attached files. Please include your name and address in your message and “Docket No. 98-090-4” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Assistant Director, Sanitary Trade Issues Team, VS, APHIS, 4700 River Road Unit 38, Riverdale, MD 20737-1231; (301) 734-8364.

SUPPLEMENTARY INFORMATION:

Background

The Animal and Plant Health Inspection Service (APHIS) of the United States Department of Agriculture regulates the importation of animals and animal products into the United States to guard against the introduction of animal diseases not currently present or prevalent in this country. The regulations pertaining to the importation of animals and animal products are set forth in the Code of Federal Regulations (CFR), title 9, chapter I, subchapter D (9 CFR parts 91 through 99).

On June 25, 1999, we published in the Federal Register (64 FR 34155-34168, Docket No. 98-090-1) a proposal to amend the regulations by recognizing—with the exception of specified areas in Germany and Italy—the countries of Austria, Belgium, France, Germany, Greece, Italy, Luxembourg, the Netherlands, Portugal, and Spain as a region in which hog cholera (classical swine fever (CSF)) is not known to exist, and from which breeding swine, swine semen, and pork and pork products may be imported into the United States under certain conditions.

We also proposed to add Greece and eight Regions in northern Italy to the list of regions recognized as free of swine vesicular disease (SVD). Additionally, we proposed to add Greece and the eight Regions in Italy to the list of SVD-free regions whose exports of pork and pork products to the United States are subject to certain restrictions because those regions either supplement their national pork supply with fresh (chilled or frozen) meat of animals from a region where SVD is considered to exist, have a common border with such regions, or conduct certain trade practices that are less restrictive than are acceptable to the United States.

In our proposed rule, we stated that we were preparing an environmental assessment in accordance with: (1) The National Environmental Policy Act of 1969, as amended (NEPA) (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). We also stated that when the environmental assessment was completed, we would inform the public through a notice in the Federal Register that it was available.

This notice announces the availability of two environmental assessments for public review and comment. They are titled “Proposed Rule for Importation of Live Swine, Swine Semen, and Pork and Pork Products from Certain Regions Within the European Union, Environmental Assessment,” dated October 2002; and “Proposed Rule for Importation of Pork and Pork Products from Greece and Certain Regions of Italy, Environmental Assessment,” also dated October 2002. The environmental assessments do not take into consideration any regions that had an outbreak of either CSF or SVD following publication of the June 1999 proposed rule and for which, consequently, import restrictions due to CSF or SVD would not be removed.

The environmental assessments may be viewed on the Internet at http://www.aphis.usda.gov/ppd/es/vsdocs.html. You may request paper copies of the environmental assessments from the person listed under FOR FURTHER INFORMATION CONTACT. Please refer to the title of the environmental assessments when requesting copies. The environmental assessments are also available for review in our reading room (the location and hours of the reading room are listed under the heading ADDRESSES at the beginning of this notice).

Done in Washington, DC, this 16th day of December 2002.
Peter Fernandez,
Acting Administrator, Animal and Plant Health Inspection Service.

[FR Doc. 02-32059 Filed 12-19-02; 8:45 am]

BILLING CODE 3410-34-P